DEPARTMENT OF VETERANS AFFAIRS

Advisory Committee Charter Renewals

AGENCY: Department of Veterans Affairs.

ACTION: Notice of Advisory Committee Charter Renewals.

SUMMARY: In accordance with the provisions of the Federal Advisory Committee ACT (FACA) and after consultation with the General Services Administration, the Secretary of Veterans Affairs has determined that the following Federal advisory committee is vital to the mission of the Department of Veterans Affairs (VA) and renewing its charter would be in the public interest. Consequently, the charter for the following Federal advisory committee is renewed for a two-year period, beginning on the dates listed below:

Committee name | Committee description | Charter renewed on
VA National Academic Affiliations | Provides advice regarding partnerships between VA and its academic affiliates | April 10, 2018.
Veterans' Rural Health Advisory Committee | Provides advice on health care issues affecting enrolled Veterans residing in rural areas | May 21, 2018.

The Secretary also determined that the following Federal advisory committee is vital to VA and reestablished its charter:

Committee name | Committee description | Charter renewed on
Genomic Medicine Program Advisory Committee | Provides advice on the scientific and ethical issues related to the establishment, development, and operation of a genomic medicine program within VA | May 9, 2018.

The Secretary has also renewed the charter for the following statutorily authorized Federal advisory committee for a two-year period, beginning on the date listed below:

Committee name | Committee description | Charter renewed on
Advisory Committee on Minority Veterans | Provides advice on the administration of VA benefits for Veterans who are minority group members in the areas of compensation, health care, rehabilitation outreach, and other services | April 9, 2018.
Advisory Committee on Homeless Veterans | Provides advice on benefits and services to Veterans experiencing homelessness | May 7, 2018.

FOR FURTHER INFORMATION CONTACT: Jeffrey Moragne, Committee Management Office, Department of Veterans Affairs, Advisory Committee Management Office (00AC), 810 Vermont Avenue NW, Washington, DC 20420; telephone (202) 266-4660; or email at Jeffrey.Moragne@va.gov. To view a copy of a VA Federal advisory committee charters, please visit http://www.va.gov/advisory.

Date: May 23, 2018.
Jelessa M. Burney,
Federal Advisory Committee Management Officer.

[FR Doc. 2018-11435 Filed 5-25-18; 8:45 am]

BILLING CODE P